DEPARTMENT OF DEFENSE

Department of the Army; Corps of Engineers

Intent to Announce a Determination of Surplus in the Federal Register

AGENCY: U.S. Army Corps of Engineers, Sacramento District, DoD.

ACTION: Dispose of surplus property.

SUMMARY: In accordance with Public Laws 103-421, 100-526 and 103-337, this is a Notice of Availability for Surplus Land, Buildings and Utilities located at Sierra Army Depot, Herlong, California. This notice identifies the surplus real property located at Sierra Army Depot (SIAD), Herlong, California. SIAD is located approximately 55 miles north northwest of Reno, Nevada just north of U.S. Highway 395. SIAD is a base realignment facility and major portions of the installation are being retained for active missions.

The surplus real property consists of approximately 3661 acres. The current range of uses include: Airport, light industrial, storage, and commercial facilities; water, sanitary sewer and electric distribution systems.

Notices of interest must be submitted to the appropriate Federal Agency as specified in the Notice of Surplus Determination within 20 days from June 27, 2000 with a copy forwarded to Lassen County Local Reuse Authority, Attention: Ms. Tricia Stewart, Project Coordinator, 815 Cottage Street, Susanville, California 96130 and Mr. Ramon Aberasturi, U.S. Army Corps of Engineers, Sacramento District (CESPK-RE-MC), 1325 J Street, Sacramento, California.

FOR FURTHER INFORMATION CONTACT: For more information regarding a particular building or parcel (i.e., acreage, floor plans, existing utilities, exact street address), contact Ms. Lori McDonald, SIAD PAO at (530) 827-4488 or regarding the Notice of Surplus Determination, contact Mr. Ramon Aberasturi, Realty Specialist, (916) 557-6865.

Keneth L. Fox,
Chief, Management and Disposal Branch Real Estate Division.

[FR Doc. 00-17852 Filed 7-13-00; 8:45 am]

BILLING CODE 3710-EZ-M